DEPARTMENT OF LABOR

Employment and Training Administration

[TA-W-75,125, TA-W-75,125A]

Westpoint Home, Inc., Manufacturing Division, Including On-Site Leased Workers from Manpower, Greenville, AL; Westpoint Home, Inc., Distribution Center, Including On-Site Leased Workers from Manpower, Greenville, AL; Amended Certification Regarding Eligibility To Apply for Worker Adjustment Assistance

In accordance with Section 223 of the Trade Act of 1974, as amended (“Act”), 19 U.S.C. 2273, the Department of Labor issued a Certification of Eligibility to Apply for Worker Adjustment Assistance on April 12, 2011, applicable to workers of WestPoint Home, Inc., Manufacturing Division, Greenville, Alabama and WestPoint Home, Inc., Distribution Center, Greenville, Alabama. The workers at the Manufacturing Division and the Distribution Center are engaged in employment related to the production of bedding products. The notice was published in the Federal Register on May 2, 2011 (76 FR 24536).

At the request of a petitioner, the Department reviewed the certification for workers of the subject firm. The company reports that workers leased from Manpower were employed on-site at the Manufacturing Division and the Distribution Center of WestPoint Home, Inc., Greenville, Alabama. The Department has determined that these workers were sufficiently under the control of WestPoint Home, Inc. to be considered leased workers.

Based on these findings, the Department is amending this certification to include workers leased from Manpower working on-site at the Manufacturing Division and the Distribution Center, Greenville, Alabama location of WestPoint Home, Inc.

The amended notice applicable to TA-W-75,125 is hereby issued as follows:

All workers of WestPoint Home, Inc., Manufacturing Division, including on-site leased workers from Manpower, Greenville, Alabama (TA-W-75,125) and WestPoint Home, Inc., Distribution Center, including on-site leased workers from Manpower, Greenville, Alabama (TA-W-75,125A), who became totally or partially separated from employment on or after January 19, 2010 through April 12, 2013, and all workers in the group threatened with total or partial separation from employment on the date of certification through two years from the date of certification, are eligible to apply for adjustment assistance under Chapter 2 of Title II of the Trade Act of 1974, as amended.

Signed at Washington, DC this 19th day of August, 2011.
Michael W. Jaffe,
Certifying Officer, Office of Trade Adjustment Assistance.

[FR Doc. 2011-22563 Filed 9-1-11; 8:45 am]

BILLING CODE 4510-FN-P